DEPARTMENT OF TRANSPORTATION

Federal Aviation Administration

14 CFR Part 71

[Docket No. FAA-2020-0361; Airspace Docket No. 20-AEA-9]

RIN 2120-AA66

Amendment of the Class D and Class E Airspace and Revocation of Class E Airspace; Erie and Corry, PA

AGENCY: Federal Aviation Administration (FAA), DOT.

ACTION: Final rule.

SUMMARY: This action amends the Class D airspace, Class E surface area airspace, and Class E airspace extending upward from 700 feet above the surface at Erie International Airport/Tom Ridge Field, Erie, PA; revokes the Class E airspace area designated as an extension to Class D and Class E surface area at Erie International Airport/Tom Ridge Field; and amends the Class E airspace extending upward from 700 feet above the surface at Corry-Lawrence Airport, Corry, PA. This action is the result of airspace reviews due to the decommissioning of the Tidioute VHF omnidirectional range (VOR) navigation aid as part of the VOR Minimum Operational Network (MON) Program.

DATES: Effective 0901 UTC, September 10, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D airspace, Class E surface area airspace, and Class E airspace extending upward from 700 feet above the surface at Erie International Airport/Tom Ridge Field, Erie, PA; revokes the Class E airspace area designated as an extension to Class D and Class E surface area at Erie International Airport/Tom Ridge Field; and amends the Class E airspace extending upward from 700 feet above the surface at Corry-Lawrence Airport, Corry, PA, to support instrument flight rule operations at these airports.

History

The FAA published a notice of proposed rulemaking in the Federal Register (85 FR 27174; May 7, 2020) for Docket No. FAA-2020-0361 to amend the Class D airspace, Class E surface area airspace, and Class E airspace extending upward from 700 feet above the surface at Erie International Airport/Tom Ridge Field, Erie, PA; revoke the Class E airspace area designated as an extension to Class D and Class E surface area at Erie International Airport/Tom Ridge Field; and amend the Class E airspace extending upward from 700 feet above the surface at Corry-Lawrence Airport, Corry, PA. Interested parties were invited to participate in this rulemaking effort by submitting written comments on the proposal to the FAA. No comments were received.

Class D and E airspace designations are published in paragraph 5000, 6002, 6004, and 6005, respectively, of FAA Order 7400.11D, dated August 8, 2019, and effective September 15, 2019, which is incorporated by reference in 14 CFR 71.1. The Class D and E airspace designations listed in this document will be published subsequently in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This amendment to Title 14 Code of Federal Regulations (14 CFR) part 71: Amends the Class D airspace to within a 4.3-mile (increased from a 4.2-mile) radius of Erie International Airport/Tom Ridge Field, Erie, PA;

Amends the Class E surface area airspace to within a 4.3-mile (increased from a 4.2-mile) radius of Erie International Airport/Tom Ridge Field;

Removes the Class E airspace area designated as an extension to Class D and Class E surface areas at Erie International Airport/Tom Ridge Field, as it is no longer required;

Amends the Class E airspace extending upward from 700 feet above the surface to within a 6.4-mile (decreased from a 7.4-mile) radius of the Corry-Lawrence Airport, Corry, PA; and removes the extension southeast of the airport, as it is no longer required;

And amends the Class E airspace extending upward from 700 feet above the surface to within a 6.8-mile (increased from a 6.7-mile) radius of Erie International Airport/Tom Ridge Field; amends the extension to within 3.6 miles (decreased from 4.4 miles) each side of the 054° bearing from the Erie International Airport/Tom Ridge Field: RWY 24-LOC (previously the airport) extending from the 6.8-mile (increased from 6.7-mile) radius of the airport to 11.6 miles (decreased from 14 miles) northeast of the airport.

This action is the result of airspace reviews caused by the decommissioning of the Tidioute VOR, which provided navigation information for the instrument procedures at these airports, as part of the VOR MON Program.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 5000 Class D Airspace.

* * * * *

AEA PA D Erie, PA [Amended]

Erie International Airport/Tom Ridge Field, PA

(Lat. 42°04′59″ N, long. 80°10′26″ W)

That airspace extending upward from the surface to and including 3,200 feet MSL within a 4.3-mile radius of Erie International Airport/Tom Ridge Field. This Class D airspace area is effective during the specific days and times established in advance by a Notice to Airmen. The effective days and times will thereafter be continuously published in the Chart Supplement.

Paragraph 6002 Class E Airspace Areas Designated as Surface Areas.

* * * * *

AEA PA E2 Erie, PA [Amended]

Erie International Airport/Tom Ridge Field, PA

(Lat. 42°04′59″ N, long. 80°10′26″ W)

That airspace extending upward from the surface within a 4.3-mile radius of Erie International Airport/Tom Ridge Field. This Class E airspace area is effective during the specific days and times established in advance by a Notice to Airmen. The effective days and times will thereafter be continuously published in the Chart Supplement.

Paragraph 6004 Class E Airspace Areas Designated as an Extension to a Class D or Class E Surface Area.

* * * * *

AEA PA E4 Erie, PA [Removed]

Paragraph 6005 Class E Airspace Areas Extending Upward From 700 Feet or More Above the Surface of the Earth.

* * * * *

AEA PA E5 Corry, PA [Amended]

Corry-Lawrence Airport, PA

(Lat. 41°54′27″ N, long. 79°38′28″ W)

That airspace extending upward from 700 feet above the surface within a 6.4-mile radius of Corry-Lawrence Airport.

* * * * *

AEA PA E5 Erie, PA [Amended]

Erie International Airport/Tom Ridge Field, PA

(Lat. 42°04′59″ N, long. 80°10′26″ W)

Erie International Airport/Tom Ridge Field: RWY 24-LOC

(Lat. 42°04′32″ N, long. 80°11′12″ W)

St. Vincent Health Center Heliport, PA

(Lat. 42°06′43″ N, long. 80°04′51″ W)

That airspace extending upward from 700 feet above the surface within a 6.8-mile radius of Erie International Airport/Tom Ridge Field, and within 3.6 miles each side of the 054° bearing from the Erie International Airport/Tom Ridge Field: RWY 24-LOC extending from the 6.8-mile radius to 11.6 miles northeast of the airport, and within a 6-mile radius of St. Vincent Health Center Heliport.

Issued in Fort Worth, Texas, on July 6, 2020.
Steven T. Phillips,
Acting Manager, Operations Support Group, ATO Central Service Center.

[FR Doc. 2020-14863 Filed 7-9-20; 8:45 am]

BILLING CODE 4910-13-P